DEPARTMENT OF ENERGY

Federal Energy Regulatory Commission

Combined Notice of Filings #1

Take notice that the Commission received the following exempt wholesale generator filings:

Docket Number: EG20-143-000.

Applicants: Cimarron Bend Wind Project III, LLC.

Description: Notice of Self-Certification of Exempt Wholesale Generator Status of Cimarron Bend Wind Project III, LLC.

Filed Date: 4/30/20.

Accession Number: 20200430-5322.

Comments Due: 5 p.m. ET 5/21/20.

Docket Number: EG20-144-000.

Applicants: Aurora Wind Project, LLC.

Description: Notice of Self-Certification of Exempt Wholesale Generator Status of Aurora Wind Project, LLC.

Filed Date: 4/30/20.

Accession Number: 20200430-5327.

Comments Due: 5 p.m. ET 5/21/2.

Docket Number: EG20-145-000.

Applicants: Taygete Energy Project, LLC.

Description: Self-Certification of Taygete Energy Project, LLC.

Filed Date: 4/30/20.

Accession Number: 20200430-5357.

Comments Due: 5 p.m. ET 5/21/20.

Take notice that the Commission received the following electric rate filings:

Docket Number: ER19-1902-002.

Applicants: Deseret Generation & Transmission Co-operative, Inc.

Description: Compliance filing: ER19-1902 Compliance Filing to be effective 5/20/2019.

Filed Date: 5/1/20.

Accession Number: 20200501-5253.

Comments Due: 5 p.m. ET 5/22/20.

Docket Number: ER19-2376-001.

Applicants: Deseret Generation & Transmission Co-operative, Inc.

Description: Compliance filing: ER19-1902 Compliance Filing to be effective 5/20/2019.

Filed Date: 5/1/20.

Accession Number: 20200501-5248.

Comments Due: 5 p.m. ET 5/22/20.

Docket Numbers: ER20-1436-001; ER20-1437-001; ER20-1438-001; ER20-879-001.

Applicants: Energy Harbor LLC, Energy Harbor Generation LLC, Energy Harbor Nuclear Generation LLC, Pleasants LLC.

Description: Notification of Change in Status of Energy Harbor LLC, et al.

Filed Date: 4/30/20.

Accession Number: 20200430-5486.

Comments Due: 5 p.m. ET 5/21/20.

Docket Number: ER20-1681-001.

Applicants: PJM Interconnection, L.L.C.

Description: Tariff Amendment: Errata to Amendment of ISA, Service Agreement No. 4511; Queue No. AB1-127 to be effective 7/13/2016.

Filed Date: 5/1/20.

Accession Number: 20200501-5041.

Comments Due: 5 p.m. ET 5/22/20.

Docket Number: ER20-1724-000.

Applicants: Midcontinent Independent System Operator, Inc.

Description: § 205(d) Rate Filing: 2020-04-30_Regional Cost Allocation Filing to be effective 7/29/2020.

Filed Date: 4/30/20.

Accession Number: 20200430-5333.

Comments Due: 5 p.m. ET 6/1/20.

Docket Number: ER20-1725-000.

Applicants: Portland General Electric Company.

Description: § 205(d) Rate Filing: NTTG Funding Agreement Termination to be effective 4/30/2020.

Filed Date: 4/30/20.

Accession Number: 20200430-5363.

Comments Due: 5 p.m. ET 5/21/20.

Docket Number: ER20-1726-000.

Applicants: Entergy Arkansas, LLC, Entergy Louisiana, LLC, Entergy Mississippi, LLC, Entergy New Orleans, LLC, Entergy Texas, Inc.

Description: Annual Informational Filing regarding Prepaid Pension Cost and Accrued Pension Cost of Entergy Arkansas, LLC, et al.

Filed Date: 4/30/20.

Accession Number: 20200430-5455.

Comments Due: 5 p.m. ET 5/21/20.

Docket Number: ER20-1727-000.

Applicants: Entergy Arkansas, LLC, Entergy Louisiana, LLC, Entergy Mississippi, LLC, Entergy New Orleans, LLC, Entergy Texas, Inc.

Description: Post-Retirement Benefits Other than Pensions for 2019 Test Year of Entergy Arkansas, LLC, et al.

Filed Date: 4/30/20.

Accession Number: 20200430-5461.

Comments Due: 5 p.m. ET 5/21/20.

Docket Number: ER20-1729-000.

Applicants: ITC Midwest LLC.

Description: § 205(d) Rate Filing: Filing of Master JUA with Prairie Energy to be effective 7/1/2020.

Filed Date: 5/1/20.

Accession Number: 20200501-5043.

Comments Due: 5 p.m. ET 5/22/20.

Docket Number: ER20-1730-000.

Applicants: NorthWestern Corporation.

Description: Tariff Cancellation: RS 253—Notice of Termination of NTTG Funding Agreement to be effective 4/30/2020.

Filed Date: 5/1/20.

Accession Number: 20200501-5052.

Comments Due: 5 p.m. ET 5/22/20.

Docket Number: ER20-1731-000.

Applicants: Southwest Power Pool, Inc.

Description: § 205(d) Rate Filing: Membership Agreement Amendments for Roughrider Electric Cooperative, Inc. to be effective 4/30/2020.

Filed Date: 5/1/20.

Accession Number: 20200501-5067.

Comments Due: 5 p.m. ET 5/22/20.

Docket Number: ER20-1732-000.

Applicants: Midcontinent Independent System Operator, Inc., Ameren Illinois Company.

Description: § 205(d) Rate Filing: 2020-05-01_SA 3028 Ameren IL—Prairie Power Project#26 SREC-N of Fairview, IL to be effective 7/1/2020.

Filed Date: 5/1/20.

Accession Number: 20200501-5074.

Comments Due: 5 p.m. ET 5/22/20.

Docket Number: ER20-1733-000.

Applicants: Alabama Power Company.

Description: § 205(d) Rate Filing: Attachment S (GPCo) Updated Depreciation Rates Filing 2020 to be effective 1/1/2020.

Filed Date: 5/1/20.

Accession Number: 20200501-5091.

Comments Due: 5 p.m. ET 5/22/20.

Docket Number: ER20-1734-000.

Applicants: Alabama Power Company.

Description: Compliance filing: Order No. 864 OATT Compliance Filing to be effective 1/27/2020.

Filed Date: 5/1/20.

Accession Number: 20200501-5098.

Comments Due: 5 p.m. ET 5/22/20.

Docket Number: ER20-1735-000.

Applicants: Alabama Power Company.

Description: Compliance filing: Order No. 864 TFCAT and Related Gulf TFCAT Service Agreements Compliance Filing to be effective 1/27/2020.

Filed Date: 5/1/20.

Accession Number: 20200501-5104.

Comments Due: 5 p.m. ET 5/22/20.

Docket Number: ER20-1736-000.

Applicants: Emera Maine.

Description: Compliance filing: Changes to Attachment J—Formula Rates per Order No. 864 to be effective 6/1/2020.

Filed Date: 5/1/20.

Accession Number: 20200501-5178.

Comments Due: 5 p.m. ET 5/22/20.

Docket Number: ER20-1737-000.

Applicants: PJM Interconnection, L.L.C.

Description: § 205(d) Rate Filing: 1st Quarterly 2020 Revisions to OA, Sch. 12 and RAA, Sch. 17 Members List to be effective 3/31/2020.

Filed Date: 5/1/20.

Accession Number: 20200501-5210.

Comments Due: 5 p.m. ET 5/22/20.

Docket Number: ER20-1738-000.

Applicants: City of Anaheim, California.

Description: § 205(d) Rate Filing: City of Anaheim TO Tariff and TRR Revisions to be effective 7/1/2020.

Filed Date: 5/1/20.

Accession Number: 20200501-5232.

Comments Due: 5 p.m. ET 5/22/20.

Docket Number: ER20-1739-000.

Applicants: American Transmission Systems, Incorporated, PJM Interconnection, L.L.C.

Description: Compliance filing: ATSI submits Revisions to PJM Tariff, Att. H-21 re: Order 864 to be effective 1/27/2020.

Filed Date: 5/1/20.

Accession Number: 20200501-5245.

Comments Due: 5 p.m. ET 5/22/20.

Docket Number: ER20-1740-000.

Applicants: American Transmission Systems, Incorporated, PJM Interconnection, L.L.C.

Description: § 205(d) Rate Filing: ATSI submits Revisions to OATT, Att. H-21 and Att. II to be effective 7/1/2020.

Filed Date: 5/1/20.

Accession Number: 20200501-5252.

Comments Due: 5 p.m. ET 5/22/20.

Take notice that the Commission received the following electric securities filings:

Docket Number: ES20-33-000.

Applicants: The Empire District Electric Company.

Description: Application Under Section 204 of the Federal Power Act for Authorization to Issue Securities, et al. of The Empire District Electric Company.

Filed Date: 4/30/20.

Accession Number: 20200430-5456.

Comments Due: 5 p.m. ET 5/5/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2020.
Nathaniel J. Davis, Sr.,
Deputy Secretary.

[FR Doc. 2020-09757 Filed 5-6-20; 8:45 am]

BILLING CODE 6717-01-P